DEPARTMENT OF LABOR

Employment and Training Administration

[TA-W-65,182]

General Motors Grand Rapids Stamping, Metal Fabricating Division, Wyoming, MI; Notice of Termination of Investigation

Pursuant to Section 221 of the Trade Act of 1974, as amended, an investigation was initiated on February 9, 2009, in response to a petition filed by a company official and by United Auto Workers Local 730 on behalf of workers at General Motors Grand Rapids Stamping, Metal Fabricating Division, Wyoming, Michigan.

The petitioners have requested that the petition be withdrawn. Consequently, the investigation has been terminated.

Signed at Washington, DC this 29th day of April 2009.
Elliott S. Kushner,
Certifying Officer, Division of Trade Adjustment Assistance.

[FR Doc. E9-11850 Filed 5-20-09; 8:45 am]

BILLING CODE 4510-FN-P